DEPARTMENT OF TRANSPORTATION

Federal Aviation Administration

14 CFR Part 71

Docket No. FAA-2005-22047; Airspace Docket No. 05-ANM-10

RIN 2120-AA66

Revision of VOR Federal Airway V-343; MT

AGENCY: Federal Aviation Administration (FAA), DOT.

ACTION: Final rule.

SUMMARY: This action extends Federal Airway V-343 from the Bozeman, MT, Very High Frequency Omni-directional Range/Tactical Air Navigation (VORTAC) to the initial approach fix for the Area Navigation (RNAV) runway 15 approach to the Bert Mooney Airport (BTM), MT. Specifically, this action will enhance the management of air traffic arrivals at BTM.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

Background

On August 23, 2005, the FAA published in the Federal Register a notice of proposed rulemaking (NPRM) to revise VOR Federal Airway V-343 by extending the airway to the initial approach for the BTM airport (70 FR 49222). Interested parties were invited to participate in this rulemaking effort by submitting written comments on the proposal. No comments were received. With the exception of editorial changes, this amendment is the same as that published in the NPRM.

The Rule

This action amends Title 14 Code of Federal Regulations (14 CFR) part 71 to revise VOR Federal Airway V-343 by extending the airway from the Bozeman, MT, VORTAC to the initial approach fix for the RNAV runway 15 approach to the BTM, MT.

Domestic VOR Federal airways are published in paragraph 6010(a) of FAA Order 7400.9N dated September 1, 2005, and effective September 15, 2005, which is incorporated by reference in 14 CFR 71.1. The Federal airways listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6010(a) Domestic VOR Federal Airways.

* * * * *

V-343 [Revised]

From Dubios, ID; Bozeman, MT, INT Bozeman, MT, 302° and Whitehall, MT, 342° Radials.

* * * * *

Issued in Washington, DC, October 17, 2005.
Edith V. Parish,
Acting Manager, Airspace and Rules.

[FR Doc. 05-21144 Filed 10-21-05; 8:45 am]

BILLING CODE 4910-13-P